DEPARTMENT OF ENERGY

Federal Energy Regulatory Commission

Combined Notice of Filings #1

Take notice that the commission received the following accounting Request filings:

Docket Numbers: AC25-40-000.

Applicants: Madison Gas & Electric Company.

Description: Madison Gas & Electric Company submits proposed final accounting entries re acquisition from Wisconsin Power and Light Company certain tenant-in-common interests in the West Riverside Energy Center, authorized by the Commission 3/7/2024.

Filed Date: 12/23/24.

Accession Number: 20241223-5316.

Comment Date: 5 p.m. ET 1/13/25.

Take notice that the Commission received the following electric corporate filings:

Docket Numbers: EC25-31-000.

Applicants: Shiloh IV Lessee, LLC, F8 Renewables CAMN Funding, LLC.

Description: Joint Application for Authorization Under Section 203 of the Federal Power Act of Shiloh IV Lessee, LLC, et al.

Filed Date: 12/19/24.

Accession Number: 20241219-5379.

Comment Date: 5 p.m. ET 1/9/25.

Docket Numbers: EC25-32-000.

Applicants: Oaktree New Holdings LLC.

Description: Application for Authorization Under Section 203 of the Federal Power Act of Oaktree Capital Holdings, LLC.

Filed Date: 12/20/24.

Accession Number: 20241220-5515.

Comment Date: 5 p.m. ET 1/10/25.

Take notice that the Commission received the following electric rate filings:

Docket Numbers: ER15-1706-008.

Applicants: Newark Energy Center, LLC.

Description: Compliance filing: Informational Filing Pursuant to Schedule 2 of the PJM OATT to be effective N/A.

Filed Date: 12/23/24.

Accession Number: 20241223-5313.

Comment Date: 5 p.m. ET 1/13/25.

Docket Numbers: ER18-2497-011.

Applicants: Lawrenceburg Power, LLC.

Description: Compliance filing: Lawrenceburg Power Informational Filing to be effective 4/1/2021.

Filed Date: 12/23/24.

Accession Number: 20241223-5285.

Comment Date: 5 p.m. ET 1/13/25.

Docket Numbers: ER24-679-003.

Applicants: Duke Energy Florida, LLC, Duke Energy Carolinas, LLC.

Description: Compliance filing: Duke Energy Carolinas, LLC submits tariff filing per 35: DEF—Attachment J—Third Compliance Filing to be effective 4/1/2024.

Filed Date: 12/23/24.

Accession Number: 20241223-5087.

Comment Date: 5 p.m. ET 1/13/25.

Docket Numbers: ER24-683-002.

Applicants: Duke Energy Carolinas, LLC, Duke Energy Florida, LLC, Duke Energy Progress, LLC.

Description: Compliance filing: Duke Energy Carolinas, LLC submits tariff filing per 35: Third Compliance Filing—Joint OATT Attachment M to be effective 4/1/2024.

Filed Date: 12/23/24.

Accession Number: 20241223-5095.

Comment Date: 5 p.m. ET 1/13/25.

Docket Numbers: ER24-2447-003.

Applicants: PJM Interconnection, L.L.C.

Description: Compliance filing: Amendment to Compliance Filing to Clarify Terms Related to CO to be effective 8/31/2024.

Filed Date: 12/23/24.

Accession Number: 20241223-5276.

Comment Date: 5 p.m. ET 1/13/25.

Docket Numbers: ER25-127-000.

Applicants: Wheatsborough Solar, LLC.

Description: Supplement to October 17, 2024, Wheatsborough Solar, LLC tariff filing.

Filed Date: 12/19/24.

Accession Number: 20241219-5375.

Comment Date: 5 p.m. ET 12/30/24.

Docket Numbers: ER25-347-001

Applicants: ISO New England Inc., The Narragansett Electric Company

Description: Tariff Amendment: The Narragansett Electric Company submits tariff filing per 35.17(b): The Narragansett Electric Company; Amendment of Schedule 21-RIE to be effective 1/1/2025.

Filed Date: 12/23/24.

Accession Number: 20241223-5169.

Comment Date: 5 p.m. ET 1/13/25.

Docket Numbers: ER25-439-000.

Applicants: Oiko Energy Inc.

Description: Supplement to November 14, 2024, Oiko Energy Inc tariff filing.

Filed Date: 12/20/24.

Accession Number: 20241220-5513.

Comment Date: 5 p.m. ET 1/10/25.

Docket Numbers: ER25-784-000.

Applicants: Pacific Gas and Electric Company.

Description: § 205(d) Rate Filing: TO SA 63: Amendment to revise and extend DOE Berkeley to be effective 1/1/2025.

Filed Date: 12/20/24.

Accession Number: 20241220-5407.

Comment Date: 5 p.m. ET 1/10/25.

Docket Numbers: ER25-785-000.

Applicants: PJM Interconnection, L.L.C.

Description: § 205(d) Rate Filing: Extending Capacity Must-Offer Requirement to All Generation Capacity Resources to be effective 2/21/2025.

Filed Date: 12/20/24.

Accession Number: 20241220-5420.

Comment Date: 5 p.m. ET 1/10/25.

Docket Numbers: ER25-786-000.

Applicants: Coso Geothermal Power Holdings, LLC.

Description: § 205(d) Rate Filing: Updated Shared Facilities Agreement to be effective 12/21/2024.

Filed Date: 12/20/24.

Accession Number: 20241220-5428.

Comment Date: 5 p.m. ET 1/10/25.

Docket Numbers: ER25-787-000.

Applicants: Mordor ES1 LLC.

Description: § 205(d) Rate Filing: Shared Facilities Agreement to be effective 12/21/2024.

Filed Date: 12/20/24.

Accession Number: 20241220-5431.

Comment Date: 5 p.m. ET 1/10/25.

Docket Numbers: ER25-788-000.

Applicants: Mordor ES2 LLC.

Description: § 205(d) Rate Filing: Shared Facilities Agreement to be effective 12/21/2024.

Filed Date: 12/20/24.

Accession Number: 20241220-5433.

Comment Date: 5 p.m. ET 1/10/25.

Docket Numbers: ER25-789-000.

Applicants: Midcontinent Independent System Operator, Inc.

Description: § 205(d) Rate Filing: 2024-12-23_SA 4420 Wolverine Power-Wolverine Power GIA (Hersey) to be effective 12/12/2024.

Filed Date: 12/23/24.

Accession Number: 20241223-5081

Comment Date: 5 p.m. ET 1/13/25.

Docket Numbers: ER25-790-000.

Applicants: PJM Interconnection, L.L.C.

Description: § 205(d) Rate Filing: Amendment to ISA, Service Agreement No. 6578; Queue No. AD1-088 to be effective 2/22/2025.

Filed Date: 12/23/24.

Accession Number: 20241223-5088.

Comment Date: 5 p.m. ET 1/13/25.

Docket Numbers: ER25-791-000.

Applicants: Northern States Power Company, a Minnesota corporation.

Description: § 205(d) Rate Filing: 2024-12-23 SA 4419 NSP-Minnkota Power 1st Rev I&IA to be effective 11/26/2024.

Filed Date: 12/23/24.

Accession Number: 20241223-5099.

Comment Date: 5 p.m. ET 1/13/25.

Docket Numbers: ER25-792-000.

Applicants: Southwest Power Pool, Inc.

Description: § 205(d) Rate Filing: 2415R20 KMEA NITSA NOA to be effective 12/1/2024.

Filed Date: 12/23/24.

Accession Number: 20241223-5107.

Comment Date: 5 p.m. ET 1/13/25.

Docket Numbers: ER25-793-000.

Applicants: PJM Interconnection, L.L.C.

Description: § 205(d) Rate Filing: Amendment to ISA, Service Agreement No. 6369; Queue No. AE2-029 to be effective 2/22/2025.

Filed Date: 2/23/24.

Accession Number: 20241223-5138.

Comment Date: 5 p.m. ET 1/13/25.

Docket Numbers: ER25-794-000.

Applicants: Southwest Power Pool, Inc.

Description: § 205(d) Rate Filing: 1148R35 American Electric Power NITSA NOAs to be effective 12/1/2024.

Filed Date: 12/23/24.

Accession Number: 20241223-5147.

Comment Date: 5 p.m. ET 1/13/25.

Docket Numbers: ER25-795-000.

Applicants: PJM Interconnection, L.L.C.

Description: § 205(d) Rate Filing: Amendment to GIA, Service Agreement No. 7302; Queue No. AF1-272 to be effective 2/22/2025.

Filed Date: 12/23/24.

Accession Number: 20241223-5189.

Comment Date: 5 p.m. ET 1/13/25.

Docket Numbers: ER25-796-000.

Applicants: Jackson Fuller Energy Storage, LLC.

Description: § 205(d) Rate Filing: Application for Market-Based Rate Authorization to be effective 2/22/2025.

Filed Date: 12/23/24.

Accession Number: 20241223-5216.

Comment Date: 5 p.m. ET 1/13/25.

Docket Numbers: ER25-797-000.

Applicants: PJM Interconnection, L.L.C.

Description: § 205(d) Rate Filing: Original GIA, SA No. 7445; Project Identifier No. AF1-049 to be effective 11/25/2024.

Filed Date: 12/23/24.

Accession Number: 20241223-5228

Comment Date: 5 p.m. ET 1/13/25.

Docket Numbers: ER25-798-000.

Applicants: PJM Interconnection, L.L.C.

Description: § 205(d) Rate Filing: Amendment to ISA, Service Agreement No. 6747; Queue No. AF1-290 to be effective 2/22/2025.

Filed Date: 12/23/24.

Accession Number: 20241223-5231.

Comment Date: 5 p.m. ET 1/13/25.

Docket Numbers: ER25-799-000.

Applicants: Northumberland Solar, LLC.

Description: Initial Rate Filing: Petition for Blanket MBR Authorization with Waivers & Expedited Treatment to be effective 2/15/2025.

Filed Date: 12/23/24.

Accession Number: 20241223-5233.

Comment Date: 5 p.m. ET 1/13/25.

Docket Numbers: ER25-800-000.

Applicants: PJM Interconnection, L.L.C.

Description: § 205(d) Rate Filing: Original GIA, Service Agreement No. 7458; AE2-094/AF1-069 to be effective 11/22/2024.

Filed Date: 12/23/24.

Accession Number: 20241223-5237.

Comment Date: 5 p.m. ET 1/13/25.

Docket Numbers: ER25-801-000.

Applicants: New York State Reliability Council, L.L.C.

Description: New York State Reliability Council, L.L.C. submits revised Installed Capacity Requirement for the New York Control Area for the period beginning on May 1, 2025 and ending on April 30, 2026.

Filed Date: 12/23/24.

Accession Number: 20241223-5239.

Comment Date: 5 p.m. ET 1/13/25.

Docket Numbers: ER25-802-000.

Applicants: Gridmatic Panicum LLC.

Description: § 205(d) Rate Filing: Gridmatic Panicum LLC MBR Application Filing to be effective 12/24/2024.

Filed Date: 12/23/24.

Accession Number: 20241223-5309.

Comment Date: 5 p.m. ET 1/13/25.

Docket Numbers: ER25-803-000.

Applicants: Greenday Energy LLC.

Description: Initial Rate Filing: Market-Based Rate Application to be effective 2/22/2025.

Filed Date: 12/23/24.

Accession Number: 20241223-5315.

Comment Date: 5 p.m. ET 1/13/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 23, 2024.
Debbie-Anne A. Reese,
Secretary.

[FR Doc. 2024-31440 Filed 12-30-24; 8:45 am]

BILLING CODE 6717-01-P